DEPARTMENT OF ENERGY

Federal Energy Regulatory Commission

[Docket No. IC18-13-000 (FERC-537)]

Errata Notice

On August 14, 2018, the Commission issued a 30-day public notice regarding the extension of the FERC-537 information collection. That same 30-day notice also responded to comments received on FERC-537 (Gas Pipeline Certificates: Construction, Acquisition and Abandonment, OMB Control No. 1902-0060) in response to a previous 60-day notice (issued on May, 14, 2018). This Errata Notice corrects the 30-day notice and the presentation and responses to the two public comments.

In reference to the 30-day notice issued on August 14, 2018, the section labeled “Response to public comments” should be corrected to read as follows:

On 5/30/2018, Ms. Joanne Collins submitted the following comment:

I am in favor of the collection of all information necessary for the proper performance of the function of the Commission. I am not in favor of deciding to collect less information because it is a burden. Using automated collection techniques or other form of technology is fine as long as it is not required for collection.

To the comment received from Ms. Joanne Collins, FERC responds:

Commenter concurs in the collection of information necessary for the Commission to make an informed decision and take appropriate action is appropriate, but does not want less information that is needed to not be collected solely because it is a burden on those seeking authorizations. We confirm that all the information required by FERC-537 continues to be necessary and that no data collections have been revised in this current review on FERC-537. Commenter notes that automated ways to collect information, such as eFiling are good, as long as they are not ultimately required of all fliers.

On 6/4/2018, Ms. Laurie Lubsen submitted the following comment:

I oppose the above proposal because it minimizes the input from the citizenry that will be directly affected by energy projects. We the PEOPLE are the most important voices to be heard from a functioning democracy, especially those directly affected by the FERC activities.

To the comment received from Ms. Laurie Lubsen, FERC responds:

Commenter points out that the collection of data and information from applicants requesting authorization to construct and operate natural gas pipelines can create a secondary burden on the general citizenry to learn about the Commission's rules and process; and further to perhaps take costly and time consuming efforts to participate in the Commission's proceedings. The Paperwork Reduction Act of 1995 was not intended to measure this type of secondary burden; only the primary burden on those applicant entities to collect and compile the information necessary for the Government to make an informed decision and take appropriate action. The Commission has multiple ways, times, and methods for the general citizenry to appropriately input their views on the Commission's rules and process, or its individual proceedings.

Dated: September 5, 2018.
Nathaniel J. Davis, Sr.,
Deputy Secretary.

[FR Doc. 2018-19696 Filed 9-10-18; 8:45 am]

BILLING CODE 6717-01-P